DEPARTMENT OF HOMELAND SECURITY

Federal Emergency Management Agency

44 CFR Part 65

Changes in Flood Elevation Determinations

AGENCY: Federal Emergency Management Agency (FEMA), Emergency Preparedness and Response Directorate, Department of Homeland Security.

ACTION: Final rule.

SUMMARY: Modified Base (1% annual chance) Flood Elevations (BFEs) are finalized for the communities listed below. These modified elevations will be used to calculate flood insurance premium rates for new buildings and their contents.

EFFECTIVE DATES: The effective dates for these modified BFEs are indicated on the following table and revise the Flood Insurance Rate Map(s) (FIRMs) in effect for each listed community prior to this date.

ADDRESSES: The modified BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: FEMA makes the final determinations listed below of modified BFEs for each community listed. These modified elevations have been published in newspapers of local circulation and ninety (90) days have elapsed since that publication. The Mitigation Division Director of the Emergency Preparedness and Response Directorate has resolved any appeals resulting from this notification.

The modified BFEs are not listed for each community in this notice. However, this rule includes the address of the Chief Executive Officer of the community where the modified base flood elevation determinations are available for inspection.

The modifications are made pursuant to Section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State or regional entities.

These modified elevations are used to meet the floodplain management requirements of the NFIP and are also used to calculate the appropriate flood insurance premium rates for new buildings built after these elevations are made final, and for the contents in these buildings.

The changes in BFEs are in accordance with 44 CFR 65.4.

National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because modified BFEs are required by the Flood Disaster Protection Act of 1973, 42 U.S.C. 4105, and are required to maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief Executive Officer of community | Effective date of modification | Community No.
Alabama:
Colbert (FEMA Docket No. D-7557) | City of Muscle Shoals | Mar. 24, 2004, Mar. 31, 2004, Times Daily | The Honorable David H. Bradford, Mayor of the City of Muscle Shoals, P.O. Box 2624, Muscle Shoals, Alabama 35662 | Apr. 17, 2004 | 010047 C
Tuscaloosa (FEMA Docket No. D-7557) | City of Tuscaloosa | Mar. 24, 2004, Mar. 31, 2004, The Tuscaloosa News | The Honorable Alvin P. Dupont, Mayor of the City of Tuscaloosa, P.O. Box 2089, Tuscaloosa, Alabama 35403 | June 30, 2004 | 010203 E
Delaware:
New Castle (FEMA Docket No. D-7555) | Unincorporated Areas | Feb. 17, 2004, Feb. 24, 2004, The News Journal | Mr. Thomas P. Gordon, New Castle County Executive, New Castle County Government Center, 87 Reads Way, New Castle, Delaware 19720 | May 25, 2004 | 105085 G
New Castle (FEMA Docket No. D-7557) | Unincorporated Areas | Apr. 2, 2004, Apr. 9, 2004, The News Journal | Mr. Thomas P. Gordon, New Castle County Executive, New Castle County Government Center, 87 Reads Way, New Castle, Delaware 19720 | July 9, 2004 | 105085 G
Massachusetts: Barnstable (FEMA Docket No. D-7559) | Town of Falmouth | Apr. 23, 2004, Apr. 30, 2004, Cape Cod Times | Mr. Robert L. Whritenour, Jr., Falmouth Town Administrator, 59 Town Hall Square, Falmouth, Massachusetts 02540 | Apr. 16, 2004 | 255211 G
New Jersey:
Hudson (FEMA Docket No. D-7555) | Township of North Bergen | Mar. 31, 2004, Apr. 7, 2004, The Jersey Journal | The Honorable Nicholas J. Sacco, Mayor of the Township of North Bergen, 4233 Kennedy Boulevard, North Bergen, New Jersey 07047 | Mar. 23, 2004 | 340225 C
Cape May (FEMA Docket No. D-7555) | Borough of Wildwood Crest | Feb. 11, 2004, Feb. 18, 2004, The Gazette | The Honorable John J. Pantalone, Mayor of the Borough of Wildwood Crest, 6101 Pacific Avenue, Wildwood Crest, New Jersey 08260 | Feb. 3, 2004 | 345330 C
Pennsylvania: Lehigh (FEMA Docket No. D-7553) | Township of South Whitehall | Feb. 9, 2004, Feb. 16, 2004, The Morning Call | Mr. Gerald Gasda, Township of South Whitehall Manager, 4444 Walbert Avenue, Allentown, Pennsylvania 18104 | Jan. 28, 2004 | 420593 D
Puerto Rico: (FEMA Docket No. D-7555) | Commonwealth | Mar. 5, 2004, Mar. 12, 2004, The San Juan Star | The Honorable Sila M. Calderon, Governor of the Commonwealth of Puerto Rico, Office of the Governor, P.O. Box 9020082, San Juan, Puerto Rico 00902-0082 | June 11, 2004 | 720000 C
South Carolina:
York (FEMA Docket No. D-7557) | City of Rock Hill | Mar. 24, 2004, Mar. 31, 2004, The Herald | The Honorable Doug Echols, Mayor of the City of Rock Hill, P.O. Box 11706, Rock Hill, South Carolina 29731 | June 30, 2004 | 450196 C
York (FEMA Docket No. D-7557) | Unincorporated Areas | Mar. 24, 2004, Mar. 31, 2004, The Herald | Mr. Alfred W. Green, York County Manager, P.O. Box 66, York, South Carolina 29745-0066 | June 30, 2004 | 450193 C
Vermont: Bennington (FEMA Docket No. D-7555) | Town of Bennington | Feb. 18, 2004, Feb. 25, 2004, Bennington Banner | Mr. Stuart Hurd, Bennington Town Manager, P.O. Box 469, 205 South Street, Bennington, Vermont 05201 | Feb. 11, 2004 | 500013 C
Virginia:
Culpeper (FEMA Docket No. D-7555) | Town of Culpeper | Feb. 17, 2004, Feb. 24, 2004, The Culpeper Star | Mr. J. Brannon Godfrey, Town of Culpeper Manager, 400 South Main Street, Culpeper, Virginia 22701 | May 25, 2004 | 510042 B
Fairfax (FEMA Docket No. D-7555) | Unincorporated Areas | Feb. 18, 2004, Feb. 25, 2004, The Washington Times | Mr. Anthony Griffin, Fairfax County Executive, 12000 Government Center Parkway, Suite 552, Fairfax, Virginia 22035-0066 | May 26, 2004 | 515525 D
Loudoun (FEMA Docket No. D-7555) | Unincorporated Areas | Mar. 10, 2004, Mar. 17, 2004, Loudoun Times Mirror | Mr. Kirby Bowers, Loudoun County Administrator, 1 Harrison Street, S.E., 5th Floor, P.O. Box 7000, Leesburg, Virginia 20177-7000 | June 16, 2004 | 510090 D
Norfolk (FEMA Docket No. D-7555) | Independent City | Apr. 5, 2004, Apr. 12, 2004, The Virginian-Pilot | The Honorable Paul D. Fraim, Mayor of the City of Norfolk, 1109 City Hall Building, 810 Union Street, Norfolk, Virginia 23510 | Mar. 29, 2004 | 510104 E
Prince William (FEMA Docket No. D-7557) | Unincorporated Areas | Mar. 17, 2004, Mar. 24, 2004, Potomac News | Mr. Craig Gerhart, Prince William County Executive, 1 County Complex Court, Prince William, Virginia 22192 | June 23, 2004 | 510119 D
Independent City (FEMA Docket No. D-7557) | City of Winchester | Mar. 15, 2004, Mar. 22, 2004, Winchester Star | Mr. Edwin C. Daley, City of Winchester Manager, Rouss City Hall, 15 North Cameron Street, Winchester, Virginia 22601 | Mar. 4, 2004 | 510173 B

(Catalog of Federal Domestic Assistance No. 83.100, “Flood Insurance”)

Dated: January 28, 2005.
David I. Maurstad,
Acting Director, Mitigation Division, Emergency Preparedness and Response Directorate.

[FR Doc. 05-2120 Filed 2-3-05; 8:45 am]

BILLING CODE 9110-12-P